DEPARTMENT OF THE TREASURY

Agency Information Collection Activities; Submission for OMB Review; Comment Request; Bond Guarantee Program

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before December 27, 2017 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained from Jennifer Leonard by emailing PRA@treasury.gov, calling (202) 622-0489, or viewing the entire information collection request at www.reginfo.gov.

SUPPLEMENTARY INFORMATION:

Community Development Financial Institutions Fund (CDFI)

Title: Bond Guarantee Program.

OMB Control Number: 1559-0044.

Type of Review: Revision of a currently approved collection.

Abstract: The purpose of the Community Development Financial Institutions (CDFI) Bond Guarantee Program (BG Program) is to support CDFI lending by providing Guarantees for Bonds issued by Qualified Issuers as part of a Bond Issue for Eligible Community or Economic Development Purposes.

Forms: Guarantee Application, Guarantee Application—Appendix A-2A Certification Regarding Material Changes to the Qualified Issuer Application, Guarantee Application—Appendix A-2C Assurances and Certifications for Qualified Issuer and Guarantee Applications, Guarantee Application—Appendix B-ID-Charts and Templates, Qualified Issuer Application, Qualified Issuer Application—Appendix QI-2-E Notice of Designating Qualified Issuer, Secondary Loan Requirements Certification with Itemization of Collateral, Itemization of Collateral Form, Financial Condition Monitoring Report, Pledged Loan Monitoring Report, Certification of Secondary Loan Requirements for Committed Loans, Secondary Loan Commitment Form, Annual Assessment Report, Program Activities Monitoring (PAM) Report.

Affected Public: Businesses or other for-profits.

Estimated Total Annual Burden Hours: 9,406.

Authority: 44 U.S.C. 3501 et seq.

Dated: November 21, 2017.
Spencer W. Clark,
Treasury PRA Clearance Officer.

[FR Doc. 2017-25541 Filed 11-24-17; 8:45 am]

BILLING CODE 4810-70-P